DEPARTMENT OF THE INTERIOR

National Park Service

[NPS-WASO-NAGPRA-NPS0040372; PPWOCRADN0-PCU00RP14.R50000]

Notice of Inventory Completion: Hood Museum of Art, Dartmouth College, Hanover, NH

AGENCY: National Park Service, Interior.

ACTION: Notice.

SUMMARY: In accordance with the Native American Graves Protection and Repatriation Act (NAGPRA), the Hood Museum of Art has completed an inventory of human remains and associated funerary objects and has determined that there is a cultural affiliation between the human remains and associated funerary objects and Indian Tribes or Native Hawaiian organizations in this notice.

DATES: Repatriation of the human remains and associated funerary objects in this notice may occur on or after July 16, 2025.

ADDRESSES: Send written requests for repatriation of the human remains and associated funerary objects in this notice to Jami C. Powell, Associate Director of Curatorial Affairs & Curator of Indigenous Art, Hood Museum of Art, 6 East Wheelock Street, Hanover, NH 03755, email hood.nagpra@dartmouth.edu.

SUPPLEMENTARY INFORMATION: This notice is published as part of the National Park Service's administrative responsibilities under NAGPRA. The determinations in this notice are the sole responsibility of the Hood Museum of Art, Dartmouth College and additional information on the determinations in this notice, including the results of consultation, can be found in its inventory or related records. The National Park Service is not responsible for the determinations in this notice.

Abstract of Information Available

Human remains representing, at least, two individuals have been identified. The 34 associated funerary objects are pottery sherds. These ancestors were removed from El Coronado Ranch (about 50 miles north of Douglas) in Cochise County, Arizona in August of 1935 by a Dartmouth College Museum expedition. The ancestors were added to the College's collections upon their arrival.

Human remains representing, at least, one individual have been identified. The one associated funerary object is a red cotton shirt which was wrapped around the ancestor. This ancestor was removed from a cave by an unknown individual near Beaver Creek (a branch of the Verde River), south of Flagstaff, AZ. At some point, this ancestor came to Richard Leroy of Scottsdale, AZ, who gave the ancestor to the Dartmouth College Museum through the Museum Shop of the Museum of Northern Arizona.

Human remains representing, at least, one individual has been identified. The one associated funerary object is a segment of faunal bone. This ancestor was removed from Spruce Tree House at Mesa Verde in Montezuma County, Colorado. It is unclear who or when this ancestor was removed, but they were donated to Dartmouth College by Emily W. and George H. Browne in 1946.

Human remains representing, at least, one individual have been identified. The 66 associated funerary objects are pottery sherds. This ancestor and their belongings were removed from Pecos Ruin in Miguel County, New Mexico in 1921. This individual and their belongings were obtained by Emily W. and George H. Browne of Cambridge, Massachusetts and were donated to Dartmouth College in 1942 by Emily Browne's sister, Ellen A. Webster.

Human remains representing, at least, two individuals have been identified. No associated funerary objects are present. These ancestors were collected at some point in the 1920s at “Aztec or Pecos” by George H. Browne of Cambridge, Massachusetts. Browne donated the ancestors to Dartmouth College in 1942.

Human remains representing, at least, one individual has been identified. The five associated funerary objects are pottery sherds and one faunal (animal) bone. This ancestor and their belongings were surface collected by J.D. Warren on April 28, 1922, when they were washed out of a small canyon with “old ruins” called “Squaw Canyon.” This is near Dove Creek in Dolores Country, Colorado. The ancestors and their belongings were transferred to George H. Browne of Cambridge, Massachusetts on an unknown date, who then donated the ancestor and their belongings to Dartmouth College in 1942.

Human remains representing, at least, one individual has been identified. The one associated funerary object is one lot of melted beads. This ancestor and associated funerary objects appear to have been cremated and are comingled. The beads are made of glass and appear to have been blue, red, and white. Part of the beads are melted so thoroughly that it is difficult to tell what the material is, as well as if there are any other materials melted into the object. The beads were removed by an unknown individual, likely around 1904, from “Mohave,” in Arizona. It is unclear if this refers to the tribal nation or the county. This ancestor was donated to Dartmouth College's collections by Frank and Clara Churchill in 1946.

Cultural Affiliation

Based on the information available and the results of consultation, cultural affiliation is reasonably identified by the geographical location or acquisition history of the human remains and associated funerary objects described in this notice.

Determinations

The Hood Museum of Art has determined that:

• The human remains described in this notice represent the physical remains of nine individuals of Native American ancestry.

• The 108 objects described in this notice are reasonably believed to have been placed intentionally with or near individual human remains at the time of death or later as part of the death rite or ceremony.

• There is a connection between the human remains and associated funerary objects described in this notice and the Ak-Chin Indian Community; Cocopah Tribe of Arizona; Colorado River Indian Tribes of the Colorado River Indian Reservation, Arizona and California; Fort McDowell Yavapai Nation, Arizona; Fort Mohave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Mescalero Apache Tribe of the Mescalero Reservation, New Mexico; Navajo Nation, Arizona, New Mexico, & Utah; Ohkay Owingeh, New Mexico; Pascua Yaqui Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Santo Domingo Pueblo; Southern Ute Indian Tribe of the Southern Ute Reservation, Colorado; Tohono O'odham Nation of Arizona; Tonto Apache Tribe of Arizona; Ute Indian Tribe of the Uintah & Ouray Reservation, Utah; Ute Mountain Ute Tribe; White Mountain Apache Tribe of the Fort Apache Reservation, Arizona; Yavapai-Apache Nation of the Camp Verde Indian Reservation, Arizona; Yavapai-Prescott Indian Tribe; Ysleta del Sur Pueblo, and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 16, 2025. If competing requests for repatriation are received, the Hood Museum of Art, Dartmouth College, Hanover, NH must determine the most appropriate requestor prior to repatriation. Requests for joint repatriation of the human remains and associated funerary objects are considered a single request and not competing requests. The Hood Museum of Art, Dartmouth College, Hanover, NH is responsible for sending a copy of this notice to the Indian Tribes and Native Hawaiian organizations identified in this notice.

Authority: Native American Graves Protection and Repatriation Act, 25 U.S.C. 3003, and the implementing regulations, 43 CFR 10.10.

Dated: June 6, 2025.
Melanie O'Brien,
Manager, National NAGPRA Program.

[FR Doc. 2025-11016 Filed 6-13-25; 8:45 am]

BILLING CODE 4312-52-P